DEPARTMENT OF COMMERCE

Foreign-Trade Zones Board

[B-43-2024]

Foreign-Trade Zone 3; Application for Production Authority; Phillips 66 Company; (Renewable Fuels and By-Products); Rodeo, California; Correction

SUMMARY: The Federal Register notice published on August 14, 2024 regarding the application submitted to the Foreign-Trade Zones (FTZ) Board by the San Francisco Port Commission, grantee of FTZ 3, on behalf of Phillips 66 Company (Phillips) is being corrected.

FOR FURTHER INFORMATION CONTACT: Juanita Chen at juanita.chen@trade.gov or 202-482-1378.

SUPPLEMENTARY INFORMATION:

Correction

In the Federal Register of August 14, 2024, in FR Doc. 2024-18105, on page 66033, in the second column, the sentence “Rebuttal comments in response to material submitted during the foregoing period may be submitted during the subsequent 15-day period to October 28, 2024.” is corrected to read as “Rebuttal comments in response to material submitted during the foregoing period may be submitted during the subsequent 15-day period to October 30, 2024.”.

Dated: August 8, 2024.
Elizabeth Whiteman,
Executive Secretary.

[FR Doc. 2024-23988 Filed 10-23-24; 8:45 am]

BILLING CODE 3510-DS-P